COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement List.

SUMMARY: The Committee is proposing to add to the procurement list products and services to be furnished by nonprofit agencies employing persons who are blind or have other severe disabilities, and to delete products previously furnished by such agencies.

Comments Must be Received on or Before: November 9, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

End of Certification

The following products and services are proposed for addition to Procurement List for production by the nonprofit agencies listed:

Products

Product/NSN: Fluorescent Highlighter

M.R. 1776

Product/NSN: Permanent Marker

M.R. 1780

NPA: Dallas Lighthouse for the Blind, Inc., Dallas, Texas

Contract Activity: Defense Commissary Agency, Fort Lee, Virginia

Product/NSN: Polyethylene Waste Disposable Asbestos Bag

8105-LL-S04-7842

8105-LL-S04-7843

8105-LL-S05-0018

NPA: Open Door Center, Valley City, North Dakota

Contract Activity: Fleet and Industrial Supply Center, Bremerton, Washington

Product/NSN: Shovel, Forest Fire

5120-00-965-0609

NPA: Mississippi Industries for the Blind, Jackson, Mississippi

Contract Activity: GSA, Southwest Supply Center, Fort Worth, Texas

Product/NSN: Tree Marking Paint, Water Resistant

8010-01-511-5057—2400-401 Type D Orange (16 oz. Aerosol)

8010-01-511-5059—2400-401 Type D Yellow (16 oz. Aerosol)

8010-01-511-5061—2400-401 Type D Green (16 oz. Aerosol)

8010-01-511-5063—2400-401 Type D Black (16 oz. Aerosol)

8010-01-511-5066—2400-401 Type D White (16 oz. Aerosol)

8010-01-511-5067—2400-401 Type D Blue (16 oz. Aerosol)

8010-01-511-5095—2400-401 Type C Orange (Quart)

8010-01-511-5097—2400-401 Type C Orange (Gallon)

8010-01-511-5098—2400-401 Type C Yellow (Quart)

8010-01-511-5100—2400-401 Type C Yellow (Gallon)

8010-01-511-5101—2400-401 Type C Green (Gallon)

8010-01-511-5102—2400-401 Type C Green (Quart)

8010-01-511-5103—2400-401 Type C Blue (Quart)

8010-01-511-5104—2400-401 Type C Blue (Gallon)

8010-01-511-5105—2400-401 Type C White (Quart)

8010-01-511-5107—2400-401 Type C White (Gallon)

8010-01-511-5108—2400-401 Type C Black (Quart)

8010-01-511-5109—2400-401 Type C Black (Gallon)

NPA: Lighthouse for the Blind, St. Louis, Missouri

Contract Activity: GSA, Hardware & Appliances Center, Kansas City, Missouri

Services

Service Type/Location: Administrative Services

Federal Protective Service, Southern Field Operation Branch Los Angeles, California

NPA: Pacific Coast Community Services, Truckee, California

Contract Activity: GSA Region 9 PMS, San Francisco, California

Service Type/Location: Custodial Services

U.S. Courthouse (Federal Building), Charlottesville, Virginia

NPA: WorkSource Enterprises, Charlottesville, Virginia

Contract Activity: GSA, Public Buildings Service, Region 3 (3PMT), Philadelphia, Pennsylvania

Service Type/Location: Custodial Services

U.S. Mint, West Point, New York

NPA: New Dynamics Corporation, Middletown, New York

Contract Activity: Department of the Treasury, Washington, DC

Service Type/Location: Grounds Maintenance

Newport Research Facilities, Newport, New York

NPA: Herkimer County Chapter, NYSARC, Herkimer, New York

Contract Activity: Air Force Research Laboratory/IFKO, Rome, New York

Service Type/Location: Janitorial/Custodial

Finger Lakes National Forest—Hector District Ranger Office Hector, New York

NPA: Schuyler County Chapter, NYSARC, Inc., Watkins Glen, New York

Contract Activity: USDA, Forest Service, Rutland, Vermont

Service Type/Location: Prepare Reports of Investigation

Prepare Final Agency Decision

Department of Transportation, Departmental Office of Civil Rights Washington, DC

NPA: Federal Dispute Resolution Center, Alexandria, Virginia

Contract Activity: Department of Transportation, Washington, DC

Service Type/Location: Switchboard Operation

Greater Los Angeles Health Care System, Los Angeles, California

At the following locations:

Los Angeles Ambulatory Care Center

Sepulveda Ambulatory Care Center

VA Medical Center, West Los Angeles

NPA: Lighthouse for the Blind of Houston, Houston, Texas

Contract Activity: VA Network Business Center, Long Beach, California

Service Type/Location: Switchboard Operation

Veterans Affairs Medical Center, Salem, Virginia

NPA: Virginia Industries for the Blind, Charlottesville, Virginia

Contract Activity: VA Medical Center, Hampton, Virginia

Deletions

Regulatory Flexibility Act Certification

I certify that the following action will not have a significant impact on a substantial number of small entities. The major factors considered for this certification were:

1. If approved, the action will not result in any additional reporting, recordkeeping or other compliance requirements for small entities.

2. If approved, the action will result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Product/NSN: Computer Accessories 7045-01-483-7451

7045-01-483-7844

NPA: Wiscraft Inc.—Wisconsin Enterprises for the Blind, Milwaukee, Wisconsin

Contract Activity: Office Supplies & Paper Products Acquisition Center, New York, New York

Product/NSN: Dropcloth, Heavy Duty 8340-00-NIB-0010

NPA: East Texas Lighthouse for the Blind, Tyler, Texas

Contract Activity: GSA, Southwest Supply Center, Fort Worth, Texas

Product/NSN: Fixture, Lighting Industrial

6210-00-688-4929

NPA: The Chicago Lighthouse for People who are Blind or Visually

Impaired, Chicago, Illinois

Contract Activity: GSA, Southwest Supply Center, Fort Worth, Texas

Product/NSN: Pad, Scouring 7920-01-383-7928

NPA: Beacon Lighthouse, Inc., Wichita Falls, Texas

Contract Activity: GSA, Southwest Supply Center, Fort Worth, Texas

Product/NSN: Tape, Electronic Data

7045-01-438-7086

7045-01-123-0367

NPA: North Central Sight Services, Inc., Williamsport, Pennsylvania

Contract Activity: Defense Supply Center Columbus, Columbus, Ohio

Product/NSN: Towel, Paper

8540-01-494-0910

NPA: The Lighthouse f/t Blind in New Orleans, New Orleans, Louisiana

Contract Activity: Office Supplies & Paper Products Acquisition Center, New York, New York

Sheryl D. Kennerly,
Director, Information Management.

[FR Doc. 03-25797 Filed 10-9-03; 8:45 am]

BILLING CODE 6353-01-P